POSTAL REGULATORY COMMISSION

[Docket No. A2010-1; Order No. 342]

Post Office Closing

AGENCY: Postal Regulatory Commission.

ACTION: Notice.

SUMMARY: This document informs the public that an appeal of the closing of the Cranberry, PA post office has been filed. It identifies preliminary steps and provides a procedural schedule. Publication of this document will allow the Postal Service, petitioner, and others to take appropriate action.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel, 202-789-6820 or stephen.sharfman@prc.gov.

SUPPLEMENTARY INFORMATION: Notice is hereby given that pursuant to 39 U.S.C. 404(d), the Commission has received an appeal of the closing of the Cranberry Post Office, Cranberry, PA 16319. The appeal was received by the Commission on October 6, 2009. The appeal was not filed as a Participant Statement on PRC Form 61; however, the petitioners have the option of filing supplemental information or facts. The Commission hereby institutes a proceeding under 39 U.S.C. 404(d)(5) and designates the case as Docket No. A2010-1 to consider the petitioner's appeal.

Categories of issues apparently raised. The categories of issues that appear to be raised include: Effect on the community (39 U.S.C. 404(d)(2)(A)(i)).

After the Postal Service files the administrative record and the Commission reviews it, the Commission may find that there are additional legal issues. Or, the Commission may find that the Postal Service's determination disposes of one or more of those issues. The deadline for the Postal Service to file the administrative record with the Commission is December 1, 2009. 39 CFR 3001.113.

Availability; Web site posting. The Commission has posted the appeal and supporting material on its Web site at http://www.prc.gov. Additional filings in this case and participants' submissions also will be posted on the Web site, if provided in electronic format or amenable to conversion, and not subject to a valid protective order or Privacy Act concerns. Information on how to use the Commission's Web site is available online or by contacting the Commission's Web master via telephone at 202-789-6873 or via electronic mail at PRC-WEBMASTER@prc.gov.

The appeal and all related documents are also available for public inspection in the Commission's docket section. Docket section hours are 8 a.m. to 4:30 p.m., Monday through Friday, except on Federal government holidays. Docket section personnel may be contacted via electronic mail at prc-dockets@prc.gov or via telephone at 202-789-6846.

Filing of documents. All filing of documents in this case shall be made using the Internet (Filing Online) pursuant to Commission rules 9(a) and 10(a) at the Commission's Web site http://www.prc.gov, unless a waiver is obtained. 39 CFR 3001.9(a) and 10(a). Instructions for obtaining an account to file documents online may be found on the Commission's Web site, http://www.prc.gov, or by contacting the Commission's docket section at prc-dockets@prc.gov or via telephone at 202-789-6846.

Intervention. Those, other than the petitioners and respondent, wishing to be heard in this matter are directed to file a notice of intervention on or before December 7, 2009 in accordance with 39 CFR 3001.111. The notice of intervention shall be filed using the Internet (Filing Online) at the Commission's Web site (http://www.prc.gov), unless a waiver is obtained for hardcopy filing. 39 CFR 3001.9(a) and 10(a).

Public Representative. Patricia Gallagher is designated as the Public Representative to represent the interests of the general public.

Further procedures. By statute, the Commission is required to issue its decision within 120 days from the date this appeal was filed. 39 U.S.C. 404(d)(5). A standard procedural schedule has been developed to accommodate this statutory deadline. The procedural schedule contemplated by 39 CFR 3001.110 et seq. has been adjusted for administrative convenience and will provide the petitioners and Postal Service with ample time to file documents. In the interest of expedition, in light of the 120-day decision schedule, the Commission may request the Postal Service or other participants to submit memoranda of law on any appropriate issue. As required by the Commission rules, if any motions are filed, responses are due 7 days after any such motion is filed. 39 CFR 3001.21. If necessary, the Commission also may ask petitioners or the Postal Service for more information.

It is ordered:

1. The Postal Service shall file the administrative record in this appeal, or otherwise file a responsive pleading to the appeal, by December 1, 2009.

2. The procedural schedule listed below is hereby adopted.

3. Pursuant to 39 U.S.C. 505, Patricia Gallagher is designated officer of the Commission (Public Representative) to represent the interests of the general public.

4. The Secretary shall arrange for publication of this notice and order in the Federal Register.

By the Commission.
Judith M. Grady,
Acting Secretary.

Procedural Schedule
October 6, 2009 | Filing of Appeal.
December 1, 2009 | Deadline for Postal Service to file administrative record in this appeal or responsive pleading.
December 7, 2009 | Deadline for supplemental information or facts in support of petition (see 39 CFR 3001.115(a) and (b)).
December 7, 2009 | Deadline for filing petitions to intervene (see 39 CFR 3001.111(b)).
December 29, 2009 | Deadline for answering brief in support of Postal Service (see 39 CFR 3001.115(c)).
January 13, 2010 | Deadline for reply briefs in response to answering briefs (see 39 CFR 3001.115(d)).
January 15, 2010 | Deadline for motions by any party requesting oral argument; the Commission will schedule oral argument only when it is a necessary addition to the written filings (see 39 CFR 3001.116).
February 3, 2010 | Expiration of the Commission's 120-day decisional schedule (see 39 U.S.C. 404(d)(5)).

[FR Doc. E9-28243 Filed 11-24-09; 8:45 am]

BILLING CODE 7710-FW-P